GENERAL SERVICES ADMINISTRATION

[Notice-MX-2013-01; Docket No. 2013-0002; Sequence 39]

Notification of a Public Meeting of the Government Accountability and Transparency Board

AGENCY: Office of Government-wide Policy, General Services Administration (GSA).

ACTION: Meeting Notice.

SUMMARY: The Government Accountability and Transparency (GAT) Board will host a meeting for the public to make presentations to the Board, as indicated below. This notice is intended to notify the general public, representatives of state and local governments, civic and professional organizations, and other interested parties, of the opportunity to present material to the Board and attend the meeting.

DATES: The GAT Board meeting will be held on January 22, 2014, in two sessions: The first session will occur from 9:00 a.m. to 12:00 p.m. Eastern Standard Time; the second session will be 1:30 p.m. to 4:30 p.m. Eastern Standard Time. The second session is for overflow purposes and will be cancelled without further notice, if responses to this notice lead the Chairperson of the GAT Board to determine the first session's timeframes are sufficient.

ADDRESSES: General Services Administration National Capital Region (NCR) Regional Office Building (ROB) Auditorium, 301 7th Street, SW., Washington, DC 20407. The GSA auditorium is located on the first floor of the building.

FOR FURTHER INFORMATION CONTACT: Ms. Nancy DiPaolo, Chief, Congressional and Intergovernmental Affairs, Recovery Board, 1717 Pennsylvania Avenue NW., Suite 700, Washington, DC 20006; Telephone 202-254-7900.

SUPPLEMENTARY INFORMATION:

Background: The Government Accountability and Transparency Board's mandate appears in Executive Order 13576 (June 13, 2011), which in short states that the Board shall:

• Provide strategic direction for enhancing transparency of federal spending and advance efforts to detect and remediate fraud, waste, and abuse in federal programs; and

• Work with the Recovery Accountability and Transparency Board (RATB) to build on lessons learned and apply the approaches developed by the RATB across federal spending.

Agenda: The purpose of the January 22, 2014 meeting is to allow the public to make presentations to the GAT Board regarding accountability and transparency for federal expenditures made through contracts and grants.

The GAT Board Chairman will make a brief opening statement. The rest of the meeting will feature presentations by members of the public on the following:

1. Who do you represent?

2. What questions are you trying to answer with federal spending information?

3. What federal spending information do you need to answer these questions?

4. Where do you find that federal spending information now?

5. Where does federal spending information need clearer instructions or explanations?

6. What suggestions do you have for prioritizing federal spending information enhancements?

The GAT Board is collecting this information at the meeting for strategic advisory purposes, to help the Board in developing its annual plan (Calendar Year 2014 Way Forward document). Note that the Board is not a decision-making body, nor does it have funding and staff. The Board provides strategic advice to interagency working groups.

Procedures for notifying the Board of attendance: Persons wishing to attend the meeting should email their names and represented organization (or indicate “self”) to federaltransparency@ratb.gov and write “January 22, 2014 GAT Board RSVP” in the subject line.

Street Address: You may submit your RSVP by mail to 1717 Pennsylvania Avenue NW., Suite 700, Washington, DC 20006. “GAT Board public meeting RSVP” should be written on the envelope.

Procedures for submitting public comments or presentation materials: In addition to notifying the Board of attendance, persons wishing to present to the GAT Board at the meeting should email their written comments and/or presentation materials to federaltransparency@ratb.gov and write “January 22, 2014 GAT Board public comment” in the subject line. Provide these written comments or presentation materials on the six topics listed above at least one week prior to the meeting (no later than January 15, 2014).

Street Address: You may submit written comments or presentation materials by mail to 1717 Pennsylvania Avenue NW., Suite 700, Washington, DC 20006. “GAT Board public meeting comments” should be written on the envelope.

Presentations: The GAT Board will provide the necessary visual equipment to project the submitted presentations to the audience the day of the meeting. Hard copies will not be provided.

Space and Time Limitations: There will be limited space for this meeting; therefore, members of the public who have submitted written comments and/or signed up in advance to make presentations will be given priority in attending this meeting and speaking to the GAT Board. Other members of the public will be admitted and heard in the order in which they sign up, time permitting. A time limit of no more than 20 minutes each (followed by a 10 minute question and answer session) will be placed on those members of the public wishing to speak at the meeting. The GAT Board will make every effort to hear the views of all interested persons. The Chairperson of the GAT Board is empowered to conduct the meeting in a fashion that will, to the Chairperson's judgment, facilitate the orderly conduct of business.

Meeting Record: The submitted presentations will be the only record of the meeting and will be posted on the GAT Board Web site after the public meeting.

Arrival: Interested parties are encouraged to arrive at least 30 minutes early to accommodate security procedures. A valid government-issued photo identification card will be required to enter the building.

Special Accommodations: The public meeting is physically accessible to people with disabilities. Request for sign language interpretation or other auxiliary aids should be directed to Ms. Nancy DiPaolo, Chief, Congressional and Intergovernmental Affairs, Recovery Board, 1717 Pennsylvania Avenue NW., Suite 700, Washington, DC 20006; Telephone 202-254-7900, at least 5 working days prior to the meeting date.

Availability of background materials for the meeting: Several documents available on the Board's Web site provide information on GAT Board activities during Calendar Year 2013 (see http://www.federaltransparency.gov/about/Pages/gatb.aspx):

• The GAT Board's annual plan (Calendar Year 2013 Way Forward document), which contains the Board's long-term strategy and the near-term focus of working groups to develop approaches to (1) standardize key data elements to improve procurement data integrity; (2) standardize key data elements to improve grants data integrity; (3) leverage existing data to help improve oversight; and (4) link financial management systems with award systems.

• Progress made in Calendar Year 2013. The Calendar Year 2013 meeting minutes of the GAT Board contain information on progress made, including the GAT Board working groups' briefings.

Dated: December 16, 2013.
Anne Rung,
Associate Administrator, Office of Government-wide Policy, General Services Administration.

[FR Doc. 2013-30283 Filed 12-19-13; 8:45 am]

BILLING CODE 6820-BR-P